UNITED STATES POSTAL SERVICE COMMISSION

Sunshine Act Meeting

Times and Dates: 1 p.m., Monday, January 6, 2003; 8:30 a.m., Tuesday, January 7, 2003.

Place: Washington, DC, at U.S. Postal Service Headquarters, 475 L'Enfant Plaza, SW., in the Benjamin Franklin Room.

Status: January 6—1 p.m. (Closed); January 7—8:30 a.m. (Open).

Matters to Be Considered:

Monday, January 6—1 p.m. (Closed)

1. Financial Performance

2. Postal Rate Commission Opinion and Recommended Decision in Docket No. MC2002-3, Experimental Periodicals Co-Palletization Dropship Discounts

3. Strategic Planning

4. Rate Case Planning

5. Personal Matters and Compensation Issues

Tuesday, January 7—8:30 a.m. (Open)

1. Minutes of the Previous Meeting, December 9-10, 2002

2. Remarks of the Postmaster General and CEO

3. Consideration of Board Resolution on Capital Funding

4. Annual Report on Government in the Sunshine Act Compliance

5. Fiscal Year 2002 Comprehensive Statement on Postal Operations

6. Quarterly Report on Financial Performance

7. Quarterly Report on Service Performance

8. Corporate Flats Strategy

9. Capital Investment

a. Northern New Jersey Metro Processing & Distribution Center Modification Request for Additional Funding

10. Election of Chairman and Vice Chairman of the Board of Governors

11. Tentative Agenda for the February 3-4, 2003, meeting in Las Vegas, Nevada

Contact Person for More Information: William T. Johnstone, Secretary of the Board, U.S. Postal Service, 475 L'Enfant Plaza, SW., Washington, DC 20260-1000. Telephone (202) 2687-4800.

William T. Johnstone,
Secretary.
Stanley F. Mires,
Certifying Officer.

[FR Doc. 02-32647 Filed 12-20-02; 4:52 am]

BILLING CODE 7710-12-M